DEPARTMENT OF LABOR

Employment and Training Administration

Comment Request for Information Collection for Contractor Information Gathering, Extension Without Changes

AGENCY: Employment and Training Administration (ETA), Department of Labor (Department).

ACTION: Notice.

SUMMARY: The Department, as part of its continuing effort to reduce paperwork and respondent burden, is conducting a preclearance consultation to provide the public and Federal agencies with an opportunity to comment on continuing collection for contractor information in accordance with the Paperwork Reduction Act of 1995 [44 U.S.C. 3506(c)(2)(A)].

The PRA helps ensure that the requested data collected by the Job Corps program can be provided in the desired format, reporting burden (time and financial resources) is minimized, collection instruments are clearly understood, and the impact of collection requirements on respondents can be properly assessed. Updates to this information collection include:

• The incorporation of the Workforce Innovation and Opportunity Act (WIOA) as Job Corps' statutory authority;

• The addition of two new Job Corps centers;

• Revised burden hours.

Currently, ETA is soliciting comments concerning the collection of data about contractor information gathering and reporting requirements (expiration date May 31, 2016).

DATES: Written comments must be submitted to the office listed in the addresses section below on or before May 2, 2016.

ADDRESSES: Submit written comments to Robert L. Mhoon, Office of Job Corps, Room N-4507, Employment and Training Administration, U.S. Department of Labor, 200 Constitution Avenue NW., Washington, DC 20210. Telephone number: 202-693-3211 (this is not a toll-free number). Individuals with hearing or speech impairments may access the telephone number above via TTY by calling the toll-free Federal Information Relay Service at 877-889-5627 (TTY/TDD). Fax: 202-693-3113. Email: mhoon.robert@dol.gov.

SUPPLEMENTARY INFORMATION:

I. Background

Job Corps is the nation's largest residential, educational, and career technical training program for at-risk youth. Job Corps was established in 1964 by the Economic Opportunity Act and currently is authorized by WIOA. For over 50 years, Job Corps has helped prepare nearly 2.9 million at-risk youth between the ages of 16 and 24 for success in our nation's workforce. With 126 centers in 50 states, Puerto Rico, and the District of Columbia, Job Corps assists students across the nation in attaining academic credentials, including a High School Diploma (HSD) and/or High School Equivalency (HSE) attainment, and career technical training credentials, including industry-recognized certifications, state licensures, and pre-apprenticeship credentials.

Job Corps is a national program administered by the U.S. Department of Labor (Department) through the National Office of Job Corps and six Regional Offices. The Department awards and administers contracts for the recruiting and screening of new students, center operations, and the placement and transitional support of graduates and former enrollees. Large and small corporations and nonprofit organizations manage and operate 99 Job Corps centers under contractual agreements with the Department. These contract center operators are selected through a competitive procurement process that evaluates potential operators' technical expertise, proposed costs, past performance, and other factors, in accordance with WIOA, the Competition in Contracting Act and the Federal Acquisition Regulations. The remaining 27 Job Corps centers, called Civilian Conservation Centers, are operated by the U.S. Department of Agriculture—Forest Service, via an interagency agreement.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who respond, including through appropriate automated, electronic, mechanical, or other technological collection techniques or other forms of information technology (e.g., permitting electronic submissions of responses).

III. Current Actions

The operation of the Job Corps program is such that many activities required of contractors must be coordinated with other organizations, both Federal and non-federal. Most of the information collection requirements of Job Corps center operators stem directly from operational needs or are necessary to ensure compliance with Federal requirements and the terms of the contract.

Job Corps contractors and operators are required to provide information which is used for, among other things, the generation of statistical reports by Federal Job Corps staff rather than the contractors. Reports are generated from data that is entered directly by contractors. Examples of this data includes ETA Forms 2110 (Center Financial Report), 2181 & 2181A (Center Operations Budget), 6-131A (Disciplinary Discharge), 6-131B (Review Board Hearings), 6-131C (Rights to Appeal), 6-40 (Student Profile), 6-61 (Notice of Termination) and 3-38 (Property Inventory Transcription.)

In addition, several forms pertain to student and facility administrative matters and are provided in Portable Data File (PDF) format. These forms include the OJC 6-37 (Inspection Residential & Educational Facilities), OJC 6-38 (Inspection Water Supply Facilities), and OJC 6-39 (Inspection of Waste Treatment Facilities).

Finally, the following are documents that center operators and other contractors are required to create, complete, or maintain according to the Job Corps Policy Requirements Handbook (PRH): Center Operations Plan, Center Maintenance Program, Annual Career Technical Skills Training (CTST), Annual Staff Training, Energy Conservation, Outreach/Public Education Plan, Health and Wellness Center Annual Program Description, Health Services Utilization Report, Alcohol Testing Report and Immunization Record.

Type of Review: Extension with minor changes.

Title: Standard Job Corps Contractor Information Gathering.

OMB Number: 1205-0219.

Affected Public: Businesses, for profit and not-for-profit institutions, and Tribal governments.

Recordkeeping: Data collection for the Center Financial and the Center Operations Budget Reports is made at least quarterly, and is essential to ensure contractor financial compliance with contractual requirements and to enable effective oversight of the program. The total burden associated with these activities is 4,536 hours.

Required activity | ETA form No. | Number of respondents | Submissions per year | Total annual submissions | Hours per submission | Total burden hours
Center Financial Report | 2110 | 126 | 12 | 1,512 | 2 | 3,024
Center Operations Budget | 2181 | 126 | 4 | 504 | 3 | 1,512
Total |  |  |  |  |  | 4,536

Center staff members enter data utilizing a personal computer that transmits the data electronically to a centralized database. Many management and performance reports are created from this database.

Certain student personnel requirements such as student payroll information, student training and education courses received, student leave, disciplinary actions and medical information are also collected in an electronic information system. The initial data entry is maintained in the national database and used for multiple reporting purposes, therefore reducing the need to enter the data more than once. The total burden associated with the input of data is 36,145 hours.

Required activity | ETA form No. | Number of respondents | Submissions per year | Total annual submissions | Hours per submission | Total burden hours
Disciplinary Discharge | 6-131A | 126 | 86 | 10,895 | 1 | 10,895
Review Board Hearings | 6-131B | 126 | 86 | 10,895 | 1 | 10,895
Rights to Appeal | 6-131C | 126 | 86 | 10,895 | 1 | 10,895
Student Profile | 6-40 | 126 | 412 | 51,945 | 0.01875 | 974
Notice of Termination | 6-61 | 126 | 412 | 51,945 | 0.01875 | 974
Property Inventory | 3-28 | 126 | 12 | 1,512 | 1 | 1,512
Total |  |  |  |  |  | 36,145

Major record keeping and operational forms listed below that pertain to student facility matters are provided in PDF format. The total burden for processing these forms is 997 hours.

Required activity | ETA form No. | Number of respondents | Submissions per year | Total annual submissions | Hours per submission | Total burden hours
Inspection of Residential & Educational Facilities | OJC 6-37 | 126 | 4 | 504 | 0.5 | 252
Inspection of Water Supply Facilities | OJC 6-38 | 126 | 4 | 504 | 1.25 | 630
Inspection of Waste Treatment Facilities | OJC 6-39 | 23 | 4 | 92 | 1.25 | 115
Total |  |  |  |  |  | 997

A total of 12,764 burden hours are estimated for the preparation of the Center Operating Plans listed below that are required for the operation of a Job Corps center.

Required activity | Collection method | Number of respondents | Submissions per year | Total annual submissions | Hours per submission | Total burden hours
Center Operation Plan | PRH Provided | 126 | 1 | 126 | 30 | 3,780
Center Maintenance Plan | PRH Provided | 126 | 1 | 126 | 5 | 630
Annual CTST | PRH Provided | 126 | 1 | 126 | 24 | 3,024
Annual Staff Training | PRH Provided | 126 | 1 | 126 | 1 | 126
Energy Conservation | PRH Provided | 126 | 1 | 126 | 5 | 630
Outreach/Public Education Plan | PRH Provided | 126 | 1 | 126 | 2 | 252
Health and Wellness Center Annual Program Description | PRH Provided | 126 | 1 | 126 | 0.5 | 63
Health Services Utilization Report | PRH Provided | 126 | 12 | 1512 | 1 | 1,512
Alcohol Testing Report | PRH Provided | 126 | 12 | 1512 | 0.08 | 126
Immunization Record | PRH Provided | 126 | 416 | 52,410 | 0.05 | 2,621
Total |  |  |  |  |  | 12,764

Total Estimated Burden: 54,442 hours.

Total Burden Cost (Capital/Startup): The Office of Job Corps has automated the data collection process for its centers. The Center Information System allows all centers to directly input data into a national database. The maintenance cost associated with the system is estimated to be $2.7 million per year for hardware and software.

Total Burden Cost (Operating/Maintaining): The costs to contractors for accomplishing record keeping requirements are computed by the Federal government annually. While precise costs cannot be identified, at the present time and based on past experience, the annual related costs for contractor staff are estimated to be $1,524,376, which represents an average cost of $28.00 per hour.

Comments submitted in response to this comment request will be summarized and/or included in the request for Office of Management and Budget approval of the information collection request; they will also become a matter of public record.

Portia Wu,
Assistant Secretary for Employment and Training, Labor.

[FR Doc. 2016-04631 Filed 3-2-16; 8:45 am]

BILLING CODE 4510-FT-P